Title 3—

The President

Proclamation 7678 of May 15, 2003

National Hurricane Awareness Week, 2003

By the President of the United States of America

A Proclamation

Destructive winds, tornadoes, torrential rains, ocean water storm surges, and flooding make hurricanes one of nature's most extreme hazards. As hurricane season approaches, Americans who live in hurricane-prone areas must prepare to help ensure their safety and minimize damage to their communities.

Hurricane season officially begins June 1 and continues through November 30. According to the National Oceanic and Atmospheric Administration (NOAA) and the Federal Emergency Management Agency (FEMA), an average of 10 tropical storms develop in the Atlantic Ocean, Caribbean Sea, and Gulf of Mexico, and 6 become hurricanes each year. In the past 2 years alone, 9 tropical storms and 1 hurricane hit our country, causing 54 deaths and more than $6 billion in damages. While we cannot stop these storms from occurring, we can take steps to limit our vulnerability. Being aware of the dangers of tropical storms and hurricanes and knowing what to do to mitigate their devastating effects are our best defenses.

Federal, State, and local agencies across America are working diligently to prepare our communities for natural disasters. Beginning this year, NOAA's hurricane forecasts will look 5 days into the future, rather than 3 days. This enhanced forecasting ability, combined with efforts to improve the accuracy of hurricane warnings, enables coastal residents and emergency personnel to more effectively prepare for a storm's arrival. In addition, Federal agencies such as FEMA and organizations such as the American Red Cross have teamed up with State and local agencies, rescue and relief organizations, the private sector, and the news media to distribute information to the public and coordinate efforts before, during, and after a tropical storm or hurricane has struck.

To help individuals prepare for an approaching tropical storm or hurricane, FEMA recommends practical measures, to make sure that homes and businesses are ready by developing a plan for what to do; securing loose objects and protecting property by covering glass with plywood or shutters; and creating a disaster supply kit with flashlights, a battery-powered radio, food that does not need refrigeration, water, and first aid supplies. The National Weather Service also encourages acquiring a weather radio equipped with the Specific Area Message Encoder feature that provides automatic alerts when important weather information is issued for an area. For more information on how to prepare for the ravages of hazardous weather, you can go to the National Weather Service website at www.nws.noaa.gov.

Millions of Americans are at risk of being personally affected by a tropical storm or hurricane. More than one in six Americans in the continental United States lives along the Eastern Atlantic or Gulf of Mexico coast, and millions of tourists visit these areas annually. Because of the growing populations in coastal areas, it is essential that Americans prepare for hurricanes and other natural disasters. During National Hurricane Awareness Week, we promote awareness of these weather hazards, organize our efforts, and work to improve our ability to endure and survive tropical storms and hurricanes.

NOW, THEREFORE, I, GEORGE W. BUSH, President of the United States of America, by virtue of the authority vested in me by the Constitution and laws of the United States, do hereby proclaim May 18 through May 24, 2003, as National Hurricane Awareness Week. I call upon government agencies, private organizations, schools, and news media in hurricane-prone areas to share information about hurricane preparedness and response in order to help prevent storm damage and save lives. I also call upon Americans living in these coastal areas of our Nation to use this opportunity to learn more about how to protect themselves against the effects of hurricanes and tropical storms.

IN WITNESS WHEREOF, I have hereunto set my hand this fifteenth day of May, in the year of our Lord two thousand three, and of the Independence of the United States of America the two hundred and twenty-seventh.

B

[FR Doc. 03-12765

Filed 5-19-03; 8:45 am]

Billing code 3195-01-P